ENVIRONMENTAL PROTECTION AGENCY

[FRL-9970-18-Region 6]

Notice of Proposed Administrative Settlement Pursuant to the Comprehensive Environmental Response, Compensation, and Liability Act

AGENCY: Environmental Protection Agency (EPA).

ACTION: Notice; request for public comment.

SUMMARY: In accordance with section 122(h)(1) of the Comprehensive Environmental Response, Compensation, and Liability Act, as amended (“CERCLA”), notice is hereby given of a proposed administrative settlement concerning the Bandera Road Ground Water Plume Superfund Site, located in City of Leon Valley, Bexar County, Texas.

The settlement requires Savings Square Partners, Ltd., settling party, to pay a total of $1,820,000 as payment of past response costs to the Hazardous Substances Superfund. The settlement includes a covenant not to sue pursuant to sections 106 and 107(a) of CERCLA, 42 U.S.C. 9606 and 9607(a).

For thirty (30) days following the date of publication of this notice, the Agency will receive written comments relating to this notice and will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733.

DATES: Comments must be submitted on or before November 30, 2017.

ADDRESSES: The proposed settlement and additional background information relating to the settlement are available for public inspection at 1445 Ross Avenue, Dallas, Texas 75202-2733. A copy of the proposed settlement may be obtained from Lawrence Andrews, 1445 Ross Avenue, Dallas, Texas 75202-2733 or by calling (214) 665-7397. Comments should reference the Bandera Road Ground Water Plume Superfund Site, City of Leon, Bexar County, Texas, and EPA Docket Number 06-06-17 and should be addressed to Lawrence Andrews at the address listed above.

FOR FURTHER INFORMATION CONTACT: Jacob Piehl, 1445 Ross Avenue, Dallas, Texas 75202-2733 or call (214) 665-2138.

Dated: October 16, 2017.
Samuel Coleman,
Acting Regional Administrator, Region 6.

[FR Doc. 2017-23684 Filed 10-30-17; 8:45 am]

BILLING CODE 6560-50-P